NATIONAL SCIENCE FOUNDATION

Notice of Permits Issued Under the Antarctic Conservation Act of 1978

AGENCY: National Science Foundation.

ACTION: Notice of permits cancelled under the Antarctic Conservation of 1978, Public Law 95-541.

SUMMARY: The National Science Foundation (NSF) is required to publish notice of permits cancelled under the Antarctic Conservation Act of 1978. This is the required notice.

FOR FURTHER INFORMATION CONTACT: Adrian Dahood, ACA Permit Officer, Divsion of Polar Programs, Rm. 755, National Science Foundation, 4201 Wilson Boulevard, Arlington, VA 22230. Or by email: ACApermits@nsf.gov.

SUPPLEMENTARY INFORMATION: The permit was issued to Raytheon Polar Services Company (RPSC). On March 31, 2012, the new civilian support contractor, Lockheed Martin, Antarctic Support Contract (ASC) took over on from RPSC on April 1, 2012. Therefore RPSC no longer required a permit. The following permit has been cancelled:

ACA 2010-021 Issued to Raytheon Polar Services Company (RPSC)

ACA 2010-021 was replaced by ACA 2013-015 issued to the ASC on August 15, 2012.

Nadene G. Kennedy,
Division of Polar Programs.

[FR Doc. 2013-16666 Filed 7-11-13; 8:45 am]

BILLING CODE 7555-01-P